POSTAL RATE COMMISSION

Industry Presentation

AGENCY: Postal Rate Commission.

ACTION: Notice of presentation.

SUMMARY: Two representatives of United Parcel Service will deliver a presentation on mail innovations and emerging mail strategies to Commissioners, special assistants and senior staff members on Tuesday, March 25, 2003. The presentation will begin at 11 a.m.

DATES: March 25, 2003.

ADDRESSES: 1333 H Street NW., Suite 300 (PRC conference room), Washington, DC 20268-0001.

FOR FURTHER INFORMATION CONTACT: Stephen L. Sharfman, General Counsel, 202-789-6818.

Steven W. Williams,
Secretary.

[FR Doc. 03-7356 Filed 3-26-03; 8:45 am]

BILLING CODE 7710-01-M